Title 3—

The President

Presidential Determination No. 2007-25 of July 5, 2007

Transfer of Funds from Prior Year Independent States Account to the International Narcotics Control and Law Enforcement Account To Support the Women's Justice and Empowerment Initiative

Memorandum for the Secretary of State

Pursuant to the authority vested in me by the Constitution and laws of the United States, including section 610 of the Foreign Assistance Act of 1961, as amended (the “Act”), I hereby determine that it is necessary for the purposes of that Act that $1.8 million in prior year Independent States funds made available under chapter 11 of part I of the Act be transferred to, and consolidated with, funds made available under chapter 8 of part I of the Act, and such funds are hereby so transferred and consolidated.

You are authorized and directed to report this determination to the Congress and to arrange for its publication in the Federal Register.

THE WHITE HOUSE,

Washington, July 5, 2007.

[FR Doc. 07-3473

Filed 7-13-07; 8:45 am]

Billing code 4710-10-P